DEPARTMENT OF HOUSING AND URBAN DEVELOPMENT

[Docket No. FR-5118-N-06]

Notice of Extension of Information Collection for Public Comment; Consolidated Plan and Annual Performance Report

AGENCY: Office of the Assistant Secretary for Community Planning and Development, HUD.

ACTION: Notice of Extension of Information Collection for Public Comment Period.

SUMMARY: The proposed extension of information collection requirements for Consolidated Planning for Community Planning and Development (CPD) programs described below will be submitted to the Office of Management and Budget (OMB) for review, as required by the Paperwork Reduction Act. The Department is soliciting public comments on the subject proposal.

DATES: Comments Due Date: January 18, 2008.

ADDRESSES: Interested persons are invited to submit comments regarding this proposal. Comments should refer to the proposal by name and/or OMB Control Number and should be sent to: Reports Liaison Officer, Pamela Williams, Department of Housing and Urban Development, 451 Seventh Street, SW, Room 7234, Washington, DC 20410.

FOR FURTHER INFORMATION CONTACT: Salvatore Sclafani, Office of Policy Development and Coordination, Office of Community Planning and Development, Department of Housing and Urban Development, 451 Seventh Street, SW., Washington, DC 20420; telephone number (202) 402-4364 (this is not a toll-free number).

SUPPLEMENTARY INFORMATION: The Department will submit the proposed extension of information collection to OMB for review, as required by the Paperwork Reduction Act of 1995 (44 U.S.C. Chapter 35 as amended). As required under 5 CFR 1320.8(d)(1), HUD and OMB are seeking comments from members of the public and affected agencies concerning the proposed collection of information to: (1) Evaluate whether the proposed extension of collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information submission of responses.

Title of Proposal: Consolidated Plan & Annual Performance Report.

Description of the Need for the Information and Proposed Uses: The information is needed to provide HUD with preliminary assessment of compliance with statutory and regulatory requirements. A secondary need is informing citizens of the intended uses of formula grant funds and an evaluation of programmatic accomplishments.

Agency Form Numbers (if applicable): The Department's collection of this information is in compliance with statutory provisions of the Cranston-Gonzalez National Affordable Housing Act of 1990 that requires the participating jurisdictions submit a Comprehensive Housing Affordability Strategy (Section 105), the 1974 Housing and Community Development Act, as amended, that requires states and localities to submit a Community Development Plan (Section 104 (b)(4) and Section 104 (b)(m) and statutory provisions of these Acts that require states and localities to submit annual plans and reports for these formula grant programs.

Members of the Affected Public: State and local governments participating in the Community Development Block Grant Program (CDBG), the HOME Investment Partnerships (HOME) program, the Emergency Shelter Grants (ESG) program, or the Housing Opportunities for Persons with AIDS/HIV (HOPWA) program.

Estimation of the total numbers of hours needed to prepare the information collection including number of respondents, frequency of response and hours of response: Under a previous submission, OMB Control Number 2506-0117, the burden of meeting the regulatory requirements of Title I of the National Affordable Housing Act (NAHA) and the Housing and Community Development Act (HCDA) were assessed. That submission was approved until March 31, 2008. In 2002, the President's Management Agenda directed HUD to work with local stakeholders to streamline the consolidated plan, making it more results-oriented and useful to communities in assessing their own progress toward addressing the problems of low-income areas. The Department carefully considered ideas generated by several working groups that were established to explore alternative planning requirements and suggestions for improving the consolidated plan.

A number of suggested alternative formats allowed jurisdictions to cross-reference other existing local documents and experiment with different visual formatting tools such as tables, graphs, bullet points, and appendices. The outcome was a streamlined, user-friendly document. In addition, the revision established some new requirements involving the development and implementation of an outcome measurement framework to meet local needs as well as outcomes that can be aggregated on a national basis. The net result did not result in a net change in burden hours.

The paperwork estimates are as follows:

Task | Number of respondents | Frequency of response | Total U.S. burden hours
Consolidated Plan
Localities:
• Strategic Plan Development | 1,000 | 1 | 220,000
• Action Plan Development | 1,000 | 1 | 112,00
States:
• Strategic Plan Development | 50 | 1 | 30,200
• Action Plan Development | 50 | 1 | 18,700
Performance Report:
Localities | 1,000 | 1 | 162,000
States | 50 | 1 | 12,600
*Abbreviated Strategy | 100 |  | 8,200
Total |  |  | 563,700

Status of the proposed information collection: Extension of previously approved collection for which approval is near expiration and the request for OMB's approval for three years. The current OMB approval expires March 31, 2008.

Authority: Section 3506 of the Paperwork Reduction Act of 1995, 44 U.S.C. Chapter 35, as amended.

Dated: November 9, 2007.
Nelson Bregón,
General Deputy Assistant Secretary for Community Planning and Development.

[FR Doc. E7-22610 Filed 11-16-07; 8:45 am]

BILLING CODE 4210-67-P